DEPARTMENT OF DEFENSE

Department of the Army

Armament Retooling and Manufacturing Support Executive Advisory Committee; Meeting

AGENCY: Department of the Army, DoD.

ACTION: Notice of meeting.

SUMMARY: Pursuant to Public Law 92-463, notice is hereby given of the next meeting of the Armament Retooling and Manufacturing Support (ARMS) Executive Advisory Committee (EAC). The EAC encourages the development of new and innovative methods to optimize the asset value of the Government-Owned, Contractor-Operated ammunition industrial base for peacetime and national emergency requirements, while promoting economical and efficient processes at minimal operating costs, retention of critical skills, community economic benefits, and a potential model for defense conversion. The U.S. Army, Operations Support Command, will host this meeting. The purpose of the meeting is to update the EAC and public on the status of ongoing actions, new items of interest, and suggested future direction/actions. Topics for this meeting will include: ARMS Loan Program; Effects of TIM on Consideration; Security Issues; and Arsenal Support Program Initiative Update. This meeting is open to the public.

Date of Meeting: August 28-29, 2002.

Place of Meeting: Isle of Capri Hotel, 1777 Isle Parkway, Bettendorf, IA 52722.

Time of Meeting: 8:30 a.m.-5 p.m. on August 28 and 7:30 a.m.-12 p.m. on August 29.

FOR FURTHER INFORMATION CONTACT: Mr. Mike Perez, U.S. Army Operations Support Command, and Attn: AMSOS-CCM-I, Rock Island Arsenal, IL 61299, phone (309) 782-3360.

SUPPLEMENTARY INFORMATION: A block of rooms has been reserved at the Isle of Capri Hotel for the nights of August 27-28, 2002. The Isle of Capri Hotel is located at 1777 Isle Parkway, Bettendorf, Iowa 52722, local phone (563) 359-7280. Please make your reservations by calling 800-724-5825. Be sure to mention the guest code acronym ARMS Meeting. Reserve your room prior to August 8th to get the Government Rate of $55.00 a night. Also notify this office of your attendance by notifying Mike Perez, perezm@osc.army.mil, and (309) 782-3360 (DSN 793-3360). To insure adequate arrangements (transportation, conference facilities, etc.) for all attendees, we request your attendance notification with this office by August 8, 2002. Corporate casual is meeting attire.

Luz D. Ortiz,
Army Federal Register Liaison Officer.

[FR Doc. 02-18273 Filed 7-18-02; 8:45 am]

BILLING CODE 3710-08-M